Proclamation 9048 of October 31, 2013

Military Family Month, 2013

By the President of the United States of America

A Proclamation

Throughout our Nation's history, an unbroken chain of patriots has strengthened us in times of peace and defended us in times of war. Yet the courageous men and women of the United States military do not serve alone. Standing alongside them are husbands and wives, parents and children, sisters and brothers. During Military Family Month, we celebrate the families who make daily sacrifices to keep our Nation whole, and we remember a most sacred obligation—to serve them as well as they serve us.

Military families exemplify the courage and resolve that define our national character. For their country and their loved ones, they rise to the challenges of multiple deployments and frequent moves—spouses who care and provide for children in their partners' absence, kids who make new friends and leave known comforts behind. They are the force behind the force, patriots who support their family members in uniform while enriching the communities they call home.

While our Soldiers, Sailors, Airmen, Marines, and Coast Guardsmen are defending the country they love, their country must provide for the families they love. Through First Lady Michelle Obama and Dr. Jill Biden's Joining Forces initiative, my Administration has worked tirelessly to engage American citizens and businesses in this cause. Joining Forces encourages the private sector to hire veterans and military spouses, helps schools become more responsive to military children's needs, and expands access to wellness and education programs for military families. Since the initiative began in 2011, businesses have hired and trained more than 290,000 veterans and military spouses. My Administration is also taking action to improve mental health care and education for veterans, service members, and their families. Last year, I signed an Executive Order directing the Federal Government to increase access to these vital services. And this year, as a result of the Supreme Court decision striking down Section 3 of the Defense of Marriage Act, the Department of Defense moved swiftly to extend benefits to legally married same-sex couples.

Time and again, our service members and their families have sacrificed to protect the promise that defines our Nation—life, liberty, and the pursuit of happiness. As we work to repay this enormous debt of gratitude, I encourage every American to do their part. Together, let us support our military children as they learn, grow, and live their dreams. And let us keep our military families strong and secure.

NOW, THEREFORE, I, BARACK OBAMA, President of the United States of America, by virtue of the authority vested in me by the Constitution and the laws of the United States, do hereby proclaim November 2013 as Military Family Month. I call on all Americans to honor military families through private actions and public service for the tremendous contributions they make in the support of our service members and our Nation.

IN WITNESS WHEREOF, I have hereunto set my hand this thirty-first day of October in the year of our Lord two thousand thirteen, and of the Independence of the United States of America the two hundred and thirty-eighth.

[FR Doc. 2013-26668

Filed 11-4-13; 11:15 am]

Billing code 3295-F4